DEPARTMENT OF COMMERCE

Foreign-Trade Zones Board

[B-79-2016]

Foreign-Trade Zone (FTZ) 38—Spartanburg County, South Carolina; Notification of Proposed Production Activity; ZF Transmissions Gray Court, LLC; (Automatic Transmission and Powertrain Subassemblies and Parts, Transmission Shafts and Cranks); Gray Court, South Carolina

ZF Transmissions Gray Court, LLC (ZF Transmissions) submitted a notification of proposed production activity to the FTZ Board for its facilities in Gray Court, South Carolina within FTZ 38. The notification conforming to the requirements of the regulations of the FTZ Board (15 CFR 400.22) was received on November 10, 2016.

ZF Transmissions already has authority to produce automatic transmissions for motor vehicles within Sites 20 and 25 of FTZ 38. The current request would add finished products and foreign status materials/components to the scope of authority. Pursuant to 15 CFR 400.14(b), additional FTZ authority would be limited to the specific foreign-status materials/components and specific finished products described in the submitted notification (as described below) and subsequently authorized by the FTZ Board.

Production under FTZ procedures could exempt ZF Transmissions from customs duty payments on the foreign-status materials/components used in export production. On its domestic sales, ZF Transmissions would be able to choose the duty rates during customs entry procedures that apply to automatic transmissions and powertrain subassemblies and parts, transmission shafts and cranks (duty rate ranges from free to 2.5%) for the foreign-status materials/components noted below and in the existing scope of authority. Customs duties also could possibly be deferred or reduced on foreign-status production equipment.

The materials/components sourced from abroad include: Adhesive labels; steel chains; steel torx screws; steel hexagon screws; steel hexalobular driving screws; steel hexalobular and hexalobular screws; snap rings; studs; split rings; wire rings; supporting rings; retaining clamps; cylindrical pins; retaining rings; USIT rings; stop rings; pole rings; U-rings; crescent rings; damper rings; slot pins; grooved pins; splash rings; support rings; pressure pins; differential shafts; plugs; retaining clips; detent disks; cable terminals; sockets; retaining rings; circlips; balls; clips; closing caps; shackles; oil coolers; tapered-roller bearings; roller bearings; axial needle bearings; needle cages; needle sleeves; combination bearings; needle bearings; axial bearings; axial plain bearings; plain bearings; metal gaskets; metal pressure seals; metal gaskets; front axle shafts; axle drives; stator shafts; input shafts; output shafts; differential and bearing brackets; differential covers; silencers; gear shift systems; guide discs; rear axle outputs; spur gears and differentials; spur gear drives and differentials; differential cases; holding fixtures; frames; front axle outputs; and, front axle differentials (duty rate ranges from free to 8.5%).

Public comment is invited from interested parties. Submissions shall be addressed to the Board's Executive Secretary at the address below. The closing period for their receipt is January 3, 2017.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Christopher Kemp at Christopher.Kemp@trade.gov or (202) 482-0862.

Dated: November 16, 2016.
Andrew McGilvray,
Executive Secretary.

[FR Doc. 2016-28111 Filed 11-21-16; 8:45 am]

BILLING CODE 3510-DS-P